DEPARTMENT OF LABOR

Employment and Training Administration

High Growth Job Training Initiative Grants for the Long-Term Care Sector of the Health Care Industry; Solicitation for Grant Applications

Announcement Type: New. Notice of solicitation for grant applications.

Funding Opportunity Number: SGA/DFA PY-06-07.

Catalog of Federal Domestic Assistance CFDA Number: 17.268.

Key Dates: Applications are due by April 5, 2007. A Webinar for prospective applicants will be held for this grant competition on March 5, 2007. Access information for the Webinar will be posted on the U.S. Department of Labor's Employment and Training Administration (ETA) Web site at http://www.doleta.gov/BRG/Indprof/Health.cfm.

Summary: The Employment and Training Administration (ETA), U.S. Department of Labor (DOL), announces the availability of approximately $2.5 million in grant funds for demand-driven regional approaches to meeting the workforce challenges of the long-term care sector of the health care industry under the President's High Growth Job Training Initiative.

The President's High Growth Job Training Initiative (HGJTI) is a strategic effort to prepare workers for new and increasing job opportunities in high-growth, high-demand, and economically vital industries and sectors of the American economy. Through the initiative, ETA identifies high-growth, high-demand industries, evaluates their skill needs, and funds local and national partnership-based demonstration projects that: (a) Address workforce challenges identified by employers; and (b) prepare workers for good jobs with career pathways in these rapidly expanding or transforming industries. When linked to broader regional economic and talent development strategies, the HGJTI approach strengthens regional employment and economic opportunities. The products, models, and effective approaches that result from HGJTI investments will be broadly disseminated to employers, education and training providers, and the workforce system to build their capacity to respond to employers' workforce needs.

Grant funds awarded under this Solicitation for Grant Applications (SGA) should be used to implement industry-driven training solutions that address the long-term care sector's critical workforce challenges. Each solution must take place in the context of a regional strategic partnership between the workforce investment system, long-term care employers, and education and training providers, as well as other public and private sector partners that bring critical assets to the table. Proposed solutions should take full advantage of existing workforce development models, promising practices, and tools. Solutions must either take an existing promising solution, model, or approach to scale in the region or adapt a solution that has been demonstrated to have positive impact on the identified workforce development challenges in another region.

Applicants may be public, private for-profit, and private non-profit organizations. It is anticipated that average individual awards will be approximately $500,000.

SUPPLEMENTARY INFORMATION: This solicitation provides background information on the High Growth Job Training Initiative and critical elements required of projects funded under the solicitation. It also describes the application submission requirements, the process that eligible applicants must use to apply for funds covered by this solicitation, and how grantees will be selected. This announcement consists of seven parts:

• Part I provides background information on the High Growth Job Training Initiative and workforce development for the long-term care sector.

• Part II describes the size and nature of the anticipated awards.

• Part III describes the qualifications of an eligible applicant.

• Part IV provides information on the application and submission process.

• Part V explains the review process and rating criteria that will be used to evaluate applications.

• Part VI provides award administration information.

• Part VII contains ETA contact information.

• Part VIII contains other information for applicants.

Part I. Funding Opportunity Description

1. Background

The growth of the elderly population in the United States is expected to rise from 8 million in 2000 to 19 million by 2050, according to the U.S. Census. As regions across the country begin to experience these significant demographic shifts, demand for long-term health care services will increase exponentially. Already, a growing gap is emerging between the supply of long-term care workers and the mounting needs of the elderly and people with disabilities for long-term care services—translating into rapidly increasing demand for well-trained direct care givers. As a highly regulated industry impacted by a range of complex factors, the need for systemic regional coordination around long-term care workforce development is clear. The workforce system is a key component in this regional coordination. Building strategic partnerships, integrating assets, connecting to broader long-term care delivery strategies and trends, and effectively managing resources and workforce strategies regionally will lead to better outcomes for both workers and employers.To support regional strategic partnerships focused on developing systemic solutions to long-term care workforce challenges, the Employment and Training Administration (ETA) is making funds available through the President's High Growth Job Training Initiative. The remaining sections of this part describe ETA's key strategies and approaches to workforce development and describe critical elements for the High Growth Job Training Initiative grants for the long-term care sector.

2. Globalization, Regional Innovation and Economic Competitiveness

The world is now witnessing one of the greatest economic transformations in history. Revolutions in technology and information have ushered in the globalization of the economic marketplace. Globalization is marked by tremendous advances in communications, travel, and trade—allowing individuals instant access to commerce from almost anywhere in the world. At the same time, American businesses now compete not only with companies across the street, but also with companies around the globe.

Global competition is typically seen as a national challenge. In reality, regions are where companies, workers, researchers, entrepreneurs and governments come together to create a competitive advantage in the global marketplace. That advantage stems from the ability to transform new ideas and new knowledge into advanced, high quality products or services—in other words, to innovate.

Regions that are successful in creating a competitive advantage demonstrate the ability to organize “innovation assets”—people, institutions, capital and infrastructure—to generate growth and prosperity in the region's economy. These regions are successful because they have connected three key elements: Workforce skills and lifelong learning strategies, investment and entrepreneurship strategies, and regional infrastructure and economic development strategies.

In the new global economy, a region's ability to develop, attract, and retain a well educated and skilled workforce is a key factor in our nation's economic competitiveness. A region may possess a strong infrastructure and the investment resources for success, but without the talented men and women to use those elements for economic growth, they are meaningless. Talent can also drive infrastructure and investment because investment capital is smart money and will follow talent, while infrastructure can be built to support a growing economy.

The health care industry plays a critical role in regional economic and talent development strategies for many regions across the country. As the largest industry in the U.S. economy in 2004, health care provided 13.5 million jobs nationally. The industry is frequently an engine of regional job growth, often serving as both a critical point of entry into the workforce and as a source of opportunities for career advancement. According to the Bureau of Labor Statistics, more new jobs—about 19 percent, or 3.6 million—created between 2004 and 2014 will be in health care than in any other industry. Trends in the long-term care sector play a crucial role in driving this job growth. In fact, over 800,000 jobs for direct care workers in the long-term care sector will be created between 2004 and 2014. Developing adequate numbers of skilled long-term care workers is particularly critical in regions currently experiencing or anticipating growth in the aging population, as this will significantly increase demand for services.

3. Talent Development in the Global Economy

Each year, the federal government invests billions of dollars in a state and local workforce investment network to assist businesses in recruiting, training, and retaining a skilled workforce. This network is called the workforce investment system, and consists of state and local workforce investment boards, state workforce agencies, and One-Stop Career Centers and their cooperating partners.

In this 21st century globally competitive economy, it is becoming increasingly important that the workforce system act as a strategic partner in regional economic development. As the leader in regional talent development, the workforce system aligns workforce investment dollars with regional economic growth goals by focusing on workforce and lifelong learning strategies that are demanded by employers and based on an understanding of future job growth in emerging, high-growth and economically vital industries and sectors of the American economy. Through this strategic alignment, the workforce system helps to ward off and respond to economic shocks, creating more stable and rewarding employment opportunities for the workforce. In addition, the system serves as a galvanizing partner by bringing together entities that can both grow talent, as well as leverage that talent base in attracting industry investment to the local or regional economy.

To maximize the impact of talent development activities, workforce investment boards must partner with a strong team composed of individuals and organizations necessary to transform the regional economy, including: Employers; educators at all levels, including community colleges; economic development entities; local, regional, and state government; the philanthropic community; faith-based and community organizations; research institutions; and other civic leaders with a stake in economic growth and talent development.

4. Solutions-Based Approaches to Workforce Investment Strategies: A Key Component for Regional Innovation and Talent Development

Within the context of these strategic partnerships, the workforce system should take a solutions-based approach to workforce development, focusing on systemic solutions that address short term challenges while contributing to long-term talent development and economic growth. Partners should work collaboratively to:

(1) Identify the regional economy;

(2) Form a core leadership group that is responsible for developing and implementing solutions and guiding the effort;

(3) Collect and analyze information about regional workforce needs and critical capacity constraints;

(4) Work collaboratively to explore, frame, and implement solutions; and

(5) Leverage resources and measure progress and outcomes.

Please note, this process is not linear—the steps may occur and reoccur depending on regional circumstances. The goal of this process is to ensure that workforce system resources help workers get education and training that aligns with regional industry-identified needs and job opportunities, and that these needs reflect economic development priorities in the region.

The Employment and Training Administration (ETA) has modeled the role of strategic partnerships in demand-driven workforce investment through the President's High Growth Job Training Initiative (HGJTI). Through the initiative, ETA has identified high-growth, high-demand industries; evaluated their skill needs; and funded local and national partnership-based demonstration projects that provide workforce solutions to ensure that individuals can gain the skills to get good jobs with career pathways in rapidly expanding or transforming industries.

The foundation of the HGJTI has been partnerships between the publicly funded workforce investment system, business and industry representatives, and the continuum of education. These partnerships engage each partner in its area of strength. Industry representatives and employers define workforce challenges facing the industry and identify the competencies and skills required for the industry's workforce. Education and training providers, such as community colleges, assist in developing competency models and curricula and train new and incumbent workers. The workforce investment system compiles and analyzes local labor market information, accesses human capital (e.g. youth, unemployed, underemployed, and dislocated workers), provides funding to support training for qualified individuals, and connects trained workers to good jobs.

Recognizing the growing need for regional economic competitiveness in the global economy, ETA has continued to evolve its strategies for supporting strategic workforce development. In February 2006, ETA launched the Workforce Innovation in Regional Economic Development (WIRED) Initiative, focusing on the role of talent development in driving regional economic competitiveness, leading to increased job growth and new opportunities for American workers. To optimize innovation and successful regional economic transformation, the WIRED framework brings together all the key players in a region to leverage their collective public and private sector assets and resources, and to devise strategies that focus on infrastructure, investment, and talent development.

The WIRED strategic framework supports regions in incorporating demand-driven talent and skills development into their larger economic strategies and integrating workforce development, economic development, and education efforts into a comprehensive system that is both flexible and responsive to the needs of business and workers.

5. The Long-Term Care Sector and Its Workforce Challenges

The long-term care sector is a powerful regional job engine for direct care occupations as well as an important entry point into licensed health-related occupations. Talent development strategies to support recruitment, retention, and career pathways in this sector are critical to the current and future health of the American people, as well as the economic vitality of regions throughout the United States.

In 2004, approximately 2.09 million direct care workers in long-term care occupations provided care to Americans in long-term care settings, including nursing and personal care facilities, residential care facilities, and home health and community-based care services. Direct care workers include registered nurses (RNs), licensed practical and vocational nurses, paraprofessionals, including nurse aides, home health aides, and home and personal care workers, and direct support professionals. More than 70 percent of long-term care workers are paraprofessionals.

The long-term care sector is facing rapidly increasing demand for care over the next half century. The Bureau of Labor Statistics (BLS) estimates that by 2014, direct care worker jobs in long-term care settings should grow by about 830,000 jobs, or roughly 40 percent. Most of this increase will be driven by the growth in the number of elderly in need of such care. The number of individuals using either nursing facilities, alternative residential care, or home and community care services is expected to increase from 15 million in 2000 to 27 million in 2050.

Changes in service delivery systems in long-term care are also impacting job growth. For example, a trend in the long-term care system in which services are increasingly provided in home and community-based settings is creating stronger projected growth in home health aides and personal and home care aides occupations. According to the Bureau of Labor Statistics, home health aides is expected to be the fastest growing occupation in the United States through 2014, growing at a rate of 56 percent, adding 350,000 new jobs.

ETA began its engagement with the long-term care sector of the health care industry in 2003 with a series of forums through which industry executives shared their workforce challenges. Simultaneously, the Department of Labor began to collaborate with the Department of Health and Human Services (HHS) to help support mutual understanding and collaboration between long-term care employers and the workforce investment system. Since that time, ETA has continued to support and further develop the role of the workforce system in response to long-term care workforce challenges through information sharing, partnership development, technical assistance, and investment in workforce solutions.

Through ETA-sponsored industry forums, long-term care employers and industry representatives identified numerous workforce challenges, as identified below. Applicants are encouraged to address one or more of these challenges in their proposal.

Recruitment of Direct Care Workers. The increase in demand for long-term care services is occurring at a time when the supply of workers who have traditionally filled these jobs—women between the ages of 25 and 44—is expected to increase only slightly. As a result of social and economic shifts, the long-term care sector must now compete for this traditional labor pool against many other industries and sectors. To meet increased demand, the sector will need to recruit from a wide range of labor pools while working to increase the competitiveness of its jobs. At the same time, the sector needs targeted recruitment and assessment strategies to identify ideal candidates who understand the demanding nature of long-term care work and possess the appropriate skills and abilities to succeed on the job.

Retention of Direct Care Workers. Challenges in filling current and projected direct care vacancies are exacerbated by high turn-over rates in the industry. Estimates of worker turnover rates vary based on the data source and how turnover is measured; however, a report by the Government Accountability Office (GAO) in 2001 confirms wide variation in turnover rates and concludes rates typically exceed 50%. Industry leaders reported to ETA turn over rates of frontline caregivers exceeding 100% annually. High rates of staff vacancies and turnover have negative effects on providers, consumers, and workers in a variety of ways: The cost to providers of replacing workers is high; quality of care may suffer; and workers in understaffed environments may suffer higher rates of injury.

Numerous factors contribute to the difficulty in recruiting and retaining paraprofessionals. For example:

• Wages are generally low and benefits are poor because facilities, in particular, remain strongly dependent on public reimbursement rates;

• Job preparation, continuing education, and training frequently fail to prepare these workers for what they face in caring for people with increasingly complex needs;

• Advancement opportunities are often limited; and

• Paraprofessionals report that they often do not feel valued or respected by their employers and supervisors.

Entry-level and Incumbent Worker Skill Development. It is critical that the long-term care industry fill vacant and projected positions with well-trained, skilled workers capable of providing high-quality care. Technological advances, changing care needs, and demanding management environments call for enhanced, competency-based skill development through training of both entry-level and incumbent workers. Many employers report that workers struggle to advance their careers, both because skill gaps can be large, and because career pathways and opportunities may not be articulated clearly. Employers also report that limited health care training capacity in many communities creates bottlenecks that impact the long-term care workforce pipeline.

6. Long-Term Care Workforce Development Strategies

The long-term care sector, workforce development practitioners, and educators have developed a number of approaches for addressing long-term care workforce challenges. Broadly speaking, these approaches involve efforts to improve wages and benefits, create opportunities for skill development and career advancement (e.g. career ladders and lattices), and improve the workplace environment, including management and supervision of paraprofessional workers. The workforce investment system has been particularly engaged in solutions that focus on recruiting workers to the sector, developing opportunities for training and career advancement, and helping to impact job quality by delivery of incumbent worker supervisory training. Examples of promising solutions include:

• Career lattices that provide pathways to advancement and specialization from all points of entry in the long-term care sector;

• Expansion of education capacity, including the integration of learning technology that offers flexibility in time and place of training, and maximizes effectiveness of limited training resources and the adoption of innovative training methodologies such as apprenticeship and on-the-job training;

• Targeted recruitment strategies;

• Mentoring programs for new employees;

• Development of a diverse pipeline of future workers; and

• Competency-based training for incumbent workers in supervisory and team leadership skills.

7. Critical Elements of Long-Term Care Workforce Development Grants

Grants funded through this SGA are expected to contain at least five critical elements. These elements consist of: (A) Strategic regional partnerships; (B) data driven analysis of regional long-term care workforce challenges and solutions; (C) systemic solutions to industry identified workforce challenges; (D) shared and leveraged resources for implementation; and (E) clear and specific outcomes. Each of these characteristics will be reflected in the ratings criteria in Part V and is described in further detail below.

A. Strategic Regional Partnership

ETA believes that strategic partnerships between the workforce investment system, employers, and education and training providers need to be in place in order to implement effective demand-driven training and capacity building strategies. Strategic partnerships between these three entities are a required component of proposals submitted under this SGA, as detailed in Part III.2, and they may have a regional, statewide, or multi-state focus, as defined by the applicant.

In addition to the required entities, the partnership should include a strong, broad consortium of the individuals and organizations necessary to resolve systemic long-term care workforce challenges, including partners such as organizations representing the long-term care industry, the long-term care workforce, and/or consumers; state Medicare/Medicaid offices and other state agencies addressing long-term care delivery, payment, or workforce issues; technical assistance providers such as Area Health Education Centers and Quality Improvement Organizations; faith-based and community organizations that provide recruitment and retention support to entry-level workers; and other stakeholders.

A regional approach is necessary to ensure that the full range of assets, resources, knowledge, and leadership are at the table. The strategic partnership should focus broadly on the workforce challenges facing the long-term care sector, and should work collaboratively to identify and implement a wide range of solutions. Additionally, the partnership should include entities that can act as levers of change to identify and address barriers to success. Partners should have a demonstrated record of close collaboration or coordination. If a high level of coordination or collaboration does not exist, applicants must demonstrate their capacity to quickly establish these links and discuss strategies for strengthening the partnership. Applicants are advised that grant funds may not be used for partnership development.

In order to maximize the long-term success of the proposed solution and to keep pace with the rapid changes both in the economy and the nature of the skills and competencies necessary for work in this sector, these partnerships need to be substantial and sustained. Therefore, the proposed solution to be funded through this solicitation should be one of many strategies that evolve from the partnership. ETA encourages partners to plan for the partnership's sustainability beyond the HGJTI investment period to enable ongoing assessment of industry workforce needs and collaborative development of solutions.

Each partner should have clearly defined roles in the proposed solutions. The exact nature of these roles may vary depending on the issue areas being addressed and the scope and nature of the activities undertaken. However, ETA expects that each collaborative partner will, at minimum, significantly contribute to one or more aspects of the project. For example, employers must be actively engaged in the project and may contribute to many aspects of grant activities including defining the program strategy and goals, identifying needed skills and competencies, and, where appropriate, hiring qualified training graduates and/or training existing staff. Education and training providers from the continuum of education, which includes K-12, community and technical colleges, four year colleges and universities, and other training entities, should assist in developing and implementing industry-driven workforce education strategies in partnership with employers including competency models, curricula, and new learning methodologies such as apprenticeship training.

The workforce investment system may play a number of roles, including compiling and analyzing labor market information, identifying and assessing candidates for training and employment, providing wrap-around support services and training funds for qualified individuals, where appropriate, and connecting qualified training graduates to employers that have existing job openings.

Partnerships with faith-based and community organizations are also encouraged. Grantees may elect to sub-award funds to faith-based and community organizations to perform a variety of grant services such as case management, mentoring, and English language programs, among others. Faith-based and community organizations can also provide wrap-around holistic and comprehensive support services where appropriate, such as employability training and career awareness activities. Faith-based and community organizations can also be helpful in identifying under-employed populations and pipelines of potential trainees, including low-income populations, immigrants, etc., and can provide the culturally-relevant supports and follow-up services necessary to aid in job retention.

B. Data Driven Analysis of Regional Long-Term Care Workforce Challenges and Assets Available for Solutions

The basis of partnership engagement and activity should be a data-driven analysis of workforce development challenges and the regional assets available for solutions. Economic regions do not typically correspond to geographic or political jurisdictions such as municipal boundaries or state, county, local workforce investment areas. Thus, partners should develop a regional understanding of the long-term care sector that is comprised of multiple jurisdictions within a state or across state borders.

C. Systemic Solutions to Industry Identified Workforce Challenges

Grants funded under this SGA should demonstrate how a demand-driven workforce system can more effectively meet the regional workforce needs of long-term care employers while at the same time helping workers find good jobs with promising career pathways. Proposed solutions should be focused and integrated, and should be driven by an accurate and comprehensive understanding of regional industry-identified workforce challenges and the educational, workforce, and other assets available to support systemic solutions.

Applicants should note that grants under this SGA are not intended to support the development of entirely new solutions to long-term care workforce challenges. Rather, they are intended to support partnerships that either a) take an existing promising solution, model, or approach to scale in the region and/or b) adapt a solution, model, or approach that has been demonstrated to have positive impact on the identified workforce challenges in another region or context. The long-term care sector and many public and private partners have been developing solutions to long-term care workforce challenges for many years. Grants funded under this SGA should demonstrate an understanding of the growing body of knowledge from public, private, and governmental sources about effective workforce development practices for this sector. A sampling of resources for workforce solutions and workforce development tools is available in Appendix A to assist applicants in identifying appropriate existing solution models.

Applicants are not limited in the strategies and approaches they may use to implement solutions provided the strategy is well developed, addresses industry-defined regional workforce challenges, and includes training to prepare entry level and/or incumbent workers for the long-term care industry. To the extent possible, applicants are encouraged to design training activities that (a) occur within the context of workforce education that supports long-term career growth, such as an articulated career ladder/lattice; and (b) result in credentials that are industry-recognized and indicate a level of mastery and competence in a given field or function. Please note that ETA is particularly interested in projects that focus on the direct care occupations described in Part I.5.

Examples of potential solutions include:

1. A program to create articulated career pathways for workers from entry-level occupations, such as direct support specialists, CNAs, and home health aids, to more advanced or specialized positions, drawing on a variety of education and development techniques, including apprenticeship training.

2. A program to support recruitment and retention of direct care workers through strategic recruitment campaigns and enhanced training opportunities.

3. A program to promote workplace retention by providing peer mentoring and supervisory training to incumbent workers.

Where appropriate, applicants are encouraged to align long-term care solutions with broader health care workforce development strategies in the region to further strengthen recruitment, retention, skill development, education capacity-building, and career ladder/lattice development.

ETA recognizes that a great deal of work is being done in the area of improving job quality for long-term care workers. While the goal of this SGA is to support workforce development solutions targeted at training and skill enhancement, grantees are encouraged to link activities under this grant to broader state and regional activities and strategies to improve long-term care job quality.

D. Shared and Leveraged Resources for Implementation

Investments under this SGA should leverage funds and resources from key entities in the strategic partnership. Leveraging resources in the context of strategic partnerships accomplishes three goals: (1) It allows for the pursuit of resources driven by the strategy; (2) it increases stakeholder investment in the project at all levels including design and implementation phases; and (3) it broadens the impact of the project itself by creating alignment with other funding streams. Projects funded under this SGA should demonstrate that their efforts align with federal, state, regional, and local assets and resources.

Leveraged resources include both federal and non-federal funds and may come from many sources. Businesses, faith-based and community organizations, economic development entities, state and local government agencies, education systems, and philanthropic foundations often invest resources to support workforce development. In addition, other federal, state, and local government programs may have resources available that can be integrated into the proposed project. Examples of such programs include other Department of Labor (DOL) programs such as registered apprenticeship and Job Corps, as well as non-DOL-funded One-Stop partner programs such as Vocational Rehabilitation and Adult Education. ETA encourages grantees and their partners to be entrepreneurial as they seek out, utilize, and sustain these resources when creating effective solutions to the workforce challenges identified by the industry.

Please note that this grant opportunity has a match requirement. Information on the match requirement can be found in Part III.4.

E. Clear and Specific Outcomes

Grants awarded under this initiative are results-oriented and demonstrate clear and specific outcomes that are appropriate to the nature of the solution and the size of the project and that indicate progress towards the workforce challenges identified by the partnership. Because HGJTI grants invest in customized strategies to address local workforce challenges and skill shortages, ETA recognizes that outcomes will vary from project to project based on the specific activities proposed. HGJTI grants should demonstrate the effectiveness of all activities by creating appropriate benchmarks and measuring against them on a regular basis.

Training outcomes must include those tracked by the Common Measures, OMB-approved uniform evaluation metrics for job training and employment programs. These outcomes include average earnings, job placements, and job retention. A detailed description of ETA's policy on the Common Measures can be found on the Common Measures/Individual Program Performance webpage at http://www.doleta.gov/Performance/quickview/IPPMeasures.cfm.

Grants that include additional non-training activities should track the impact of those activities on employers, workers, and appropriate partners. All outcomes and impacts of the proposed project should satisfactorily address the workforce needs identified by the partnership. Where appropriate, grants should use standard industry outcome measures.

Part II. Award Information

1. Award Amount

ETA intends to fund five projects at approximately the $500,000 level; however, this does not preclude funding grants at either a lower or higher amount, or funding a smaller or larger number of projects, based on the type and the number of quality submissions. Applicants are encouraged to submit budgets for quality projects at whatever funding level is appropriate to the project. Nevertheless, applicants should recognize that the limited funds available through this SGA are intended to supplement project budgets rather than be the sole source of funds for the proposal.

2. Period of Performance

The period of grant performance will be 36 months from the date of execution of the grant documents. This performance period shall include all necessary implementation and start-up activities as well as participant follow-up for performance outcomes and grant close-out activities. A timeline clearly detailing these required grant activities and their expected completion dates must be included in the grant application. If applied for and with significant justification, ETA may elect to exercise its option to award no-cost extensions to these grants for an additional period at its own discretion, based on the success of the program and other relevant factors.

Part III. Eligibility Information

1. Eligible Applicants

Applicants may be public, private for-profit, and private non-profit organizations including faith-based and community organizations. The application must clearly identify the applicant and describe its capacity to administer the HGJTI long-term care grant, in terms of organizational and strategic leadership capacity and data management capabilities. Applications for supplementation of distinct on-going projects, regardless of funding source, are eligible for consideration under this SGA; however, applications for renewal of existing projects will not be considered. Please note that the applicant and fiscal agent must be the same organization.

2. Required Partners

Applicants must demonstrate the existence of a partnership that includes at least one entity from each of three categories: (1) The publicly funded Workforce Investment System, which may include state and local Workforce Investment Boards, State Workforce Agencies, and One-Stop Career Centers and their partners; (2) the education and training community, which includes the K-12 system, community and technical colleges, four year colleges and universities, and other training entities; and (3) long-term care employers. This partnership should be regional in nature, as defined by the applicant.

3. Proposed Solutions

Building on Existing Best Practices

This SGA is intended to support regional long-term care workforce development strategies that take full advantage of existing solutions, models, promising practices, and tools while meeting the specific needs and circumstances of the identified region. Therefore applicants must demonstrate that proposed solutions meet one of two criteria. Either a) the applicant proposes to take an existing promising solution, model, or approach to scale in the region and/or b) the applicant is implementing a solution, model, or approach that has been demonstrated to have positive impact on the identified workforce development challenges in another location. To the greatest extent possible, applicants are also encouraged to use existing tools and curricula as part of their proposed grant activities.

Training Workers for Employment in Long-Term Care

All grants funded under this solicitation must include the direct provision of training to individual participants. Applicants are not limited in the strategies and approaches they may employ to implement training activities; however, the training must: (a) Target skills and competencies demanded by the long-term care sector; (b) support participants' long-term career growth along a defined career pathway such as an articulated career ladder or lattice; and (c) result in an industry-recognized certificate, degree, or license that indicates a level of mastery and competence in a given field or function. The credential awarded to participants should be based on the type of training provided through the grant and the requirements of the targeted occupation, and should be selected based on consultations with industry partners. For example:

1. Customized and short-term training should result in a performance-based certification or certificate. This certification may be developed jointly by employers and the project partners, based on defined knowledge and skill requirements for specific high-growth occupations.

2. Training in fields with established professional standards and examinations should result in certification.

3. In states where licensure is required for the specific occupation targeted by the training, the credentialing requirement should be set accordingly.

4. In some instances, training provided under the HGJTI grant may lead to a degree. In these instances, the credential will be the degree itself or the successful completion of coursework required for the degree.

4. Matching Funds and Leveraged Resources

Aligning resources and leveraging funding are key components of success under the High Growth Job Training Initiative. Therefore, applicants must provide cash or in-kind resources equivalent to at least 25 percent of the grant award amount as matching funds. Please note that neither prior investments nor Federal resources may be counted as match.

To be allowable as part of match, a cost must be an allowable charge for Federal grant funds. Determinations of allowable costs will be made in accordance with the applicable Federal cost principles as indicated in Part IV.4. If the cost would not be allowable as a grant-funded charge, then it also cannot be counted toward matching funds. Matching funds must be expended during the grant period of performance.

Please note that applicants are expected to fulfill the match amount specified on their SF-424 application and SF-424a budget form. Upon completion of the grant, if the match amount specified by the applicant is not met or if a portion of the matching funds are found to be an unallowable cost, the amount of DOL grant funds may be decreased on a dollar for dollar basis. This may result in the repayment of funds to DOL.

Applicants are encouraged to leverage additional funds outside of the match to supplement the project as a whole. Matching funds and leveraged resources could come from a variety of sources including: public sector (e.g., state or local governments); non-profit sector (e.g., community organizations, faith-based organizations, or education and training institutions); private sector (e.g., businesses or industry associations); investor community (e.g., angel networks or economic development entities); and the philanthropic community (e.g., foundations).

Applicants should clearly make the distinction of what will be considered matching funds versus leveraged funds. Only the matching funds shall be shown on the SF-424 and SF-424a. The amount of funds specified on these forms will be considered by DOL as the applicant's match. All other leverage resources should be explained in the budget narrative separate from the explanation of match.

5. Participants Eligible to Receive HGJTI Training

Generally, the scope of potential trainees is very broad. Training may be targeted to a wide variety of populations, including unemployed individuals and incumbent workers. The identification of targeted and qualified trainees should be part of the larger project planning process by the required partnership and should relate to the workforce issues addressed by the training.

6. Veterans Priority

This program is subject to the provisions of the “Jobs for Veterans Act,” Public Law 107-288, which provides priority of service to veterans and spouses of certain veterans for the receipt of employment, training, and placement services in any job training program directly funded, in whole or in part, by the Department of Labor. Please note that to obtain priority of service, a veteran must meet the grantee's program eligibility requirements. ETA Training and Employment Guidance Letter (TEGL) No. 5-03 (September 16, 2003), available at http://wdr.doleta.gov/directives/corr_doc.cfm?DOCN=1512, provides general guidance on the scope of the veterans priority statute and its effect on current employment and training programs.

7. Other Eligibility Requirements

Distribution Rights. Selected applicants must agree to give ETA the right to use and distribute all materials developed with grant funds such as training models, curriculum, technical assistance products, etc. Materials developed with grant resources are in the public domain; therefore, ETA has the right to use, reuse, modify, and distribute all grant-funded materials and products to any interested party, including broad distribution to the public workforce investment system via the Internet or other means.

Legal rules pertaining to inherently religious activities by organizations that receive Federal financial assistance. The government is generally prohibited from providing direct Federal financial assistance for inherently religious activities. See 29 CFR part 2, subpart D. Grants under this solicitation may not be used for religious instruction, worship, prayer, proselytizing, or other inherently religious activities. Neutral, non-religious criteria that neither favor nor disfavor religion will be employed in the selection of grant recipients and must be employed by grantees in the selection of sub-recipients.

Part IV. Application and Submission Information

1. Address to Request Application Package

This announcement includes all information and links to forms needed to apply for this funding opportunity.

2. Content and Form of Application Submission

The proposal must consist of two (2) separate and distinct parts, Parts I and II. Applications that fail to adhere to the instructions in this section will be considered non-responsive and may not be given further consideration.

Part I of the proposal is the Cost Proposal and must include the following three items:

• The Standard Form (SF) 424, “Application for Federal Assistance” (available at http://www.grants.gov/techlib/424_20090131.doc). The SF 424 must clearly identify the applicant and be signed by an individual with authority to enter into a grant agreement. Upon confirmation of an award, the individual signing the SF 424 on behalf of the applicant shall be considered the authorized representative of the applicant.

• All applicants for federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: www.dunandbradstreet.com or call 1-866-705-5711.

• The SF 424A Budget Information Form (available at http://www.doleta.gov/sga/forms.cfm). In preparing the Budget Information Form, the applicant must provide a concise narrative explanation to support the request. The budget narrative should break down the budget, match and leveraged resources by the project activities specified in the technical proposal and should discuss precisely how the administrative costs support the project goals.

Please note that applicants that fail to provide a SF 424, SF 424A and/or a budget narrative will be removed from consideration prior to the technical review process. Only an applicant's match amount (not other leveraged resources) should be listed on the SF 424 (Block 18) and SF 424A Budget Information Form (Section A & C). The amount of federal funding requested for the entire period of performance should be shown together on the SF 424 and SF 424A Budget Information Form. Applicants are also encouraged, but not required, to submit OMB Survey N. 1890-0014: Survey on Ensuring Equal Opportunity for Applicants, which can be found at http://www.doleta.gov/sga/forms.cfm.

Part II of the application is the technical proposal which demonstrates the applicant's capabilities to plan and implement a demonstration project under the High Growth Job Training Initiative in accordance with the selection criteria. The Technical Proposal is limited to twenty (20) double-spaced, single-sided, 8.5-inch-by-11-inch pages with 12-point font and 1-inch margins. Any pages over the 20 page limit will not be reviewed. In addition, the applicant may provide resumes, a staffing pattern, statistical information, and related materials in attachments which may not exceed 10 pages. Letters of commitment from partners may be submitted as attachments and will not count against the allowable maximum page totals. The applicant must reference any participating entities and articulate their role in grant activities clearly in the text of the Technical Proposal.

Except for the discussion of match and leveraged resources in response to the evaluation criteria, no cost data or reference to prices should be included in the technical proposal. The following information is required as part of the technical proposal:

• A table of contents listing the application sections.

• A 2-3 page abstract summarizing the proposed project and applicant profile information including: (1) Applicant name; (2) project title; (3) identification of region; (4) overview of strategies; (5) regional partnership members; and (6) requested funding level.

• A 1-2 page timeline.

• An implementation plan outlining project activities.

Please note that the table of contents, the abstract, and the timeline are not included in the 20-page limit. The implementation plan will be included in the 20-page limit. Applications that do not meet these requirements will not be considered. Please note that applicants should not send letters of commitment or support separately to ETA because letters are tracked through a different system and will not be attached to the application for review.

Applications may be submitted electronically on www.grants.gov or in hard-copy via U.S. mail, professional delivery service, or hand delivery. These processes are described in further detail in Section IV(3). Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM.

3. Submission Dates and Times

The closing date for receipt of applications under this announcement is April 5, 2007. Applications must be received at the address below, or electronically received at the website below, no later than 4 p.m. (Eastern Time), except as identified in the “Late Applications” paragraph below. Applications sent by e-mail, telegram, or facsimile (fax) will not be honored. No exceptions to the mailing and delivery requirements set forth in this notice will be granted.

Mailed applications must be addressed to the U.S. Department of Labor, Employment and Training Administration, Division of Federal Assistance, Attention: Eric Luetkenhaus, Reference SGA/DFA PY 06-07, 200 Constitution Avenue, NW., Room N-4716, Washington, DC 20210. Applicants are advised that mail delivery in the Washington area may be delayed due to mail decontamination procedures. Hand-delivered proposals will be received at the above address.

Applicants may apply online at http://www.grants.gov by the deadline specified above. Any application received after the deadline will not be accepted. For applicants submitting electronic applications via Grants.gov, please note that it may take several days to complete the “Get Started” step to register with Grants.gov. It is strongly recommended that these applicants immediately initiate this step in order to avoid unexpected delays that could result in the disqualification of their application. If submitted electronically through http://www.grants.gov, applicants should save application documents as a .doc or .pdf file.

A Webinar for prospective applicants will be held for this grant competition on March 5, 2007. Access information for the Webinar will be posted on ETA's Web site at http://www.doleta.gov/BRG/Indprof/Health.cfm. Following the Webinar, this link will also include instructions for accessing an archived version. Please note that frequently asked questions may be made available and will be found on ETA's Web site at http://ww.doleta.gov/BRG/Indprof/Health.cfm. Applicants are encouraged to check the ETA Web site frequently, as the frequently asked questions document may be updated from time to time up until the close of the SGA.

Late Applications: Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on Grants.gov to the addressee not later than one working day prior to the date specified for receipt of applications. It is highly recommended that online submissions be completed one working day prior to the date specified for receipt of applications to ensure that the applicant still has the option to submit by overnight delivery service in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

4. Intergovernmental Review

This funding opportunity is not subject to Executive Order (EO) 12372, “Intergovernmental Review of Federal Programs”.

5. Funding Restrictions

Determinations of allowable costs will be made in accordance with the applicable Federal cost principles as indicated in Part VI.2. Disallowed costs are those charges to a grant that the grantor agency or its representative determines not to be allowed in accordance with the applicable Federal Cost Principles or other conditions contained in the grant. As discussed above, only costs that would be allowable with grant funds may be counted as part of the recipients' share of project costs.

Use of Stipends. The provision of stipends to training enrollees for the purposes of wage replacement or supportive services, such as transportation costs, for unemployed or employed workers, is not an allowable cost under this Solicitation for Grant Applications.

Indirect Costs. As specified in OMB Circular Cost Principles, indirect costs are those that have been incurred for common or joint objectives and cannot be readily identified with a particular cost objective. In order to utilize grant funds for indirect costs incurred, the applicant must obtain an Indirect Cost Rate Agreement with its Federal cognizant agency either before or shortly after the grant award.

Administrative Costs. Under the President's High Growth Job Training Initiative, an entity that receives a grant to carry out a project or program may not use more than 10 percent of the amount of the grant to pay administrative costs associated with the program or project. Administrative costs could be both direct and indirect costs, and are defined at 20 CFR 667.220. Administrative costs do not need to be identified separately from program costs on the SF 424A Budget Information Form. They should be discussed in the budget narrative and tracked through the grantee's accounting system. Although there will be administrative costs associated with the managing of the partnership as it relates to specific grant activity, the primary use of funding should be to support the actual capacity building and training activity(ies). To claim any administrative costs that are also indirect costs, the applicant must obtain an indirect cost rate agreement as described above.

6. Other Submission Requirements

Withdrawal of Applications. Applications may be withdrawn by written notice or telegram (including Mailgram) received at any time before an award is made. Applications may be withdrawn in person by the applicant or by an authorized representative thereof, if the representative signs a receipt for the proposal.

Part V. Application Review Information

1. Rating Criteria

This section identifies and describes the criteria that will be used to evaluate the proposals under this SGA: (A) Statement of Need (15 points); (B) Strength of Partnership (20 points); (C) Strategies for Long-Term Care Workforce Development (30 points); (D) Outcomes (15 points); (E) Leveraged Resources (10 points); and (F) Program Management and Organization Capacity (10 points).

A. Statement of Need (15 points)

Applicants must identify the region in which grant activities will take place and demonstrate a clear and specific need for the federal investment in the proposed activities. Scoring for this factor will be based on the following.

Identification of the region (5 points). Applicants must define the region of focus in the proposal, demonstrate the appropriateness of the geographic boundaries of the region as it relates to the long-term care sector. This discussion should include, but is not limited to, how the following factors contribute to the formation of the region:

• Economic interdependence (relating how the long-term care industry contributes to and is impacted by the regional economy)

• Assets (e.g., human capital, educational capacity, financial capital, research and development institutions, infrastructure, etc.)

• Networks (e.g., how strategic partners are collaborating to develop talent in the context of the regional economy)

Demonstration of need (10 points). Through narrative discussion and data displays, the applicant must provide an overview of the labor market and economic landscape of the region, the role of the long-term care sector in the economy, and the state of workforce preparation and education related to the sector. Applicants may draw from a variety of resources for supporting data, including: traditional labor market information, including projections; industry data; trade association or direct information for the local industry; and information on the regional economy and other transactional data, such as job vacancies, that are available. Discussion should include, but is not limited to, the following:

• Demonstrated knowledge of the long-term care sector in the region, including the impact of the industry on the regional economy.

• Demonstrated existence of identified workforce challenges in the region, and if capacity building activities are proposed, demonstrated existence of a capacity constraint in addressing those challenges, in the area in which the grant activity will take place.

• Discussion of how the industry workforce challenges affect the specific employer partners contained in the proposal.

• Description of the resource analysis and mapping that has been conducted to date that demonstrates that local resources are not sufficient to address the workforce challenges.

B. Strength of Partnership (20 points)

The applicant must demonstrate that the proposed grant activities were developed and will be implemented by a strategic partnership comprised of a strong team of regional leaders. The partnership must be representative of the entire region as defined by the applicant and have the authority to drive the proposed investment strategy. One or more long-term care employers, representatives of the workforce system (i.e., state and/or local workforce investment boards and One-Stop Career Centers), and education and training providers are required partners. Applicants should also demonstrate that they have included a broader consortium of partners where appropriate, including organizations representing entities such as the long-term care industry, the long-term care workforce, or consumers; state Medicare/Medicaid offices and other state agencies addressing long-term care delivery, payment, or workforce issues; technical assistance providers such as Area Health Education Centers and Quality Improvement Organizations; and others. Scoring on this criterion will be based on the following factors:

Completeness of the Partnership (15 points). The applicant must identify the partners and explain the meaningful role each partner will play in the project. Points for this factor will be awarded based on:

• A comprehensive list of the strategic partners that will be included in the project and the articulation of each partner's role in the project within an overall project governance structure. Please note that, in order to receive full points, applicants must demonstrate that each required partner will play a well-developed and committed role in the project. (5 points).

• Demonstration that the partnership includes all the key regional assets and institutions necessary to address the identified workforce challenges. If all key regional assets and institutions are not currently engaged in the partnership, then the applicant must clearly identify how appropriate organizations or individuals will be brought into the partnership quickly. (4 points).

• Demonstration that integration or a high level of coordination already exists between partners. If a high level of integration or coordination does not exist, then the applicant must demonstrate that it has the capacity to quickly establish these links and discuss strategies for strengthening the partnership. (2 points).

• Identification of how the partnership will ensure the integration of education, workforce development, industry and other partner assets. (2 points).

• Indication that the partnership has addressed sustainability beyond the High Growth Job Training Initiative investment. (2 points).

Partnership Management (5 points). Points for this factor will be awarded based on evidence that the administrative entity has the capacity to lead the regional partnership in implementing the initiative. Discussion should include, but is not limited to, the administrative entity's leadership and staff capacity and experience implementing initiatives of this caliber.

C. Strategies for Long-Term Care Workforce Development (30 points)

The applicant must describe the proposed workforce development solution strategy in full, including all solution elements and implementation strategies, how the solutions address the workforce challenges described in the statement of need, and how the proposed solution draws on existing best practices, models, and tools. Points for this criterion will be awarded for the following factors:

Solution Description (20 points). Applicants may earn up to 20 points based on evidence that the applicant has developed an effective solutions-based approach and a plan of implementation that will address the following objectives:

• The proposed project activities will effectively address one or more workforce challenges identified by the long-term care sector as discussed in Sections I.5 of this SGA and the proposed activities were developed in the context of a solutions-based approach. (5 points).

• The solution models and workforce development approaches that guide the proposed activities have been clearly explained, and their source identified. The applicant explains how the partnership has drawn upon existing tools and approaches in building its solution. (4 points).

• The proposed strategy is cohesive in nature and includes training activities that target skills and competencies demanded by the long-term care industry and support participants' long-term career growth along a defined career pathway such as an articulated career ladder and lattice. The proposed training activities should also lead to an appropriate credential. If the credential targeted by the training project is a certificate- or performance-based certification, applicants should either (a) demonstrate employer engagement in the curriculum development process, or (b) indicate that the certification will translate into concrete job opportunities with an employer. (5 points).

• Strategies are present to increase synergy between the workforce system, education community, and the long-term care sector. If appropriate, the applicant discusses the nature of larger strategic economic development, long-term care sector, or workforce investment projects with which the proposed project is aligned. (4 points).

• The proposed activities lay the foundation for long-term workforce planning and development for the long-term care sector in the region, and the applicant describes a reasonable strategy for sustaining the partnership-driven solutions-based approach for the long-term care sector beyond the federal investment. (2 points).

Implementation Strategy (10 points). Applicants can earn up to 10 points based on evidence that the applicant has a clear understanding of the tasks required to successfully meet the objectives of the grant. Factors considered in evaluating this evidence include: (1) The existence of an implementation plan that is responsive to the applicant's statement of need and includes specific goals, objectives, activities, implementation strategies, and a timeline; (2) the feasibility and reasonableness of the timeline for accomplishing all necessary implementation activities, including start-up, capacity building (if applicable) and training activities, participant follow-up for performance outcomes, and grant close-out activities; (3) whether budget line items are consistent with and tied to the work plan objectives; and (4) the extent to which the budget is justified with respect to the adequacy and reasonableness of resources requested.

D. Outcomes (15 points)

Applicants should demonstrate a results-oriented approach to managing and operating the proposed project by fully describing the proposed outcome measures relevant to measuring the success or impact of the project. Scoring on this criterion will be based on the following factors:

Description of Outcomes (10 points). Applicants may earn up to 10 points for indicating that appropriate measurable outcomes have been established as detailed below. The description of outcomes must include: (1) Baseline numbers for tracking progress; (2) specific outcome goals expressed numerically where appropriate; and (3) the methods proposed to collect and validate outcome data in a timely and accurate manner, and the frequency with which outcome data will be assessed.

• Training. Applicants must identify the number of individuals to be trained under the grant and track training outcome measures that are consistent with ETA's Common Measures, such as employment placement numbers and/or average earnings and retention. Other outcome measures that should be tracked include the number of individuals awarded credentials or degrees, and any other outcome measures specific to the proposed training project. Applications must also identify the type of credential that participants will earn as a result of the proposed training, and the employer-, industry-, vendor-, or state-defined standards associated with the credential.

• Other grant activities. Applicants that have other related non-training activities in their projects must clearly describe the tangible results of those activities and indicate the number of participants or entities who will benefit in either the short and/or long term, from the proposed activities. If specific products or models result from these activities or are acquired with Federal funds through the grant, these must be clearly described. Applicants must describe the data measures that will be used to measure how the proposed activities impact the ability of entities to train workers for skills in demand by the long-term care sector or address other identified industry challenges.

Appropriateness of Outcomes (5 points). Applicants may earn up to 5 points based on three factors: (1) The extent to which the expected project outcomes are clearly identified and measurable, realistic, and consistent with the objectives of the project; (2) the ability of the applicant to achieve the stated outcomes within the timeframe of the grant, based on the identified implementation strategies; (3) the appropriateness of the outcomes with respect to both the extent of the workforce challenge described in the statement of need and the requested level of funding.

E. Match and Leveraged Resources (10 points)

Applicants should clearly describe the required matching funds and any additional funds or resources leveraged in support of the proposed strategies and demonstrate how these funds will be used to contribute to the goals of the project. Important elements of the explanation include:

• Which partners and/or grant subrecipient have contributed match and leveraged resources and the extent of each contribution, including an itemized description of each contribution.

• The quality of the match and leveraged resources, including the extent to which each contribution will be used to further the goals of the project.

• Evidence, such as letters of commitment, that key partners have expressed a clear commitment to provide the contribution.

Assessment of this criterion will be based on the extent to which the application fully describes the amount, commitment, nature, and quality of match and leveraged resources. A match in the sum of at least 25 percent of the Federal funding request must be provided. Matching funds may be either cash or in-kind. Both matching funds and additional leveraged resources will be scored based on the degree to which the source and use of those resources are clearly explained and the extent to which all resources are fully integrated into the project to support grant outcomes.

F. Program Management and Organizational Capacity (10 points)

To satisfy this criterion, applicants must describe their proposed project management structure including, where appropriate, the identification of a proposed project manager, discussion of the proposed staffing pattern, and the qualifications and experience of key staff members. The applicant should also show evidence of the use of data systems to track outcomes in a timely and accurate manner. The applicant should include a description of organizational capacity and the organization's track record in projects similar to that described in the proposal and/or related activities of the primary partners.

Scoring under this criterion will be based on the extent to which applicants provide evidence of the following:

• The time commitment of the proposed staff is sufficient to ensure proper direction, management, and timely completion of the project.

• The roles and contribution of staff, consultants, and collaborative organizations are clearly defined and linked to specific objects and tasks.

• The background, experience, and other qualifications of the staff are sufficient to carry out their designated roles.

• The applicant organization has significant capacity to accomplish the goals and outcomes of the project, including the ability to collect and manage data in a way that allows consistent, accurate, and expedient reporting.

2. Review and Selection Process

Applications will be accepted after the publication of this announcement until the closing date. A technical review panel will make a careful evaluation of applications against the criteria set forth in Section V of this Solicitation. These criteria are based on the policy goals, priorities, and emphases set forth in this SGA. Up to 100 points may be awarded to an application, based on the required information described in Section V of this Solicitation. The ranked scores will serve as the primary basis for selection of applications for funding, in conjunction with other factors such as urban, rural, and geographic balance; balance across long-term care occupations served, as stated in Part I (5) of this SGA; the availability of funds; and which proposals are most advantageous to the Government. The panel results are advisory in nature and not binding on the Grant Officer, who may consider any information that comes to his attention. DOL may elect to award the grant(s) with or without prior discussions with the applicants. Should a grant be awarded without discussions, the award will be based on the applicant's signature on the SF 424, which constitutes a binding offer.

Part VI. Award Administrative Information

1. Award Notices

All award notifications will be posted on the ETA homepage at http://www.doleta.gov.

2. Administrative and National Policy Requirements—Administrative Program Requirements

All grantees will be subject to all applicable Federal laws (including provisions in appropriations law), regulations, and the applicable Office of Management and Budget (OMB) Circulars. The applicants selected under the SGA will be subject to the following administrative standards and provisions, if applicable:

• Workforce Investment Act—20 Code of Federal Regulations (CFR) Part 667.200 (General Fiscal and Administrative Rules).

• Non-Profit Organizations—Office of Management and Budget (OMB Circulars A-122 (Cost Principles) and 29 CFR Part 95 (Administrative Requirements).

• Educational Institutions—OMB Circulars A-21 (Cost Principles) and 29 CFR Part 95 (Administrative Requirements).

• State and Local Governments—OMB circulars A-87 (Cost Principles) and 29 CFR Part 97 (Administrative Requirements).

• All entities must comply with 29 CFR Parts 93 and 98, and where applicable, 29 CFR Parts 96 and 99.

• In accordance with Section 18 of the Lobbying Disclosure Act of 1995, Public Law 104-65 (2 U.S.C. 1611) non-profit entities incorporated under Internal Revenue Code Section 501(c)(4) that engage in lobbying activities will not be eligible for the receipt of Federal funds and grants.

• 29 CFR part 2, subpart D—Equal Treatment in Department of Labor Programs for Religious Organizations; Protection of Religious Liberty of Department of Labor Social Service Providers and Beneficiaries.

• 29 CFR part 30—Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs and Activities Receiving or Benefiting from Federal Financial Assistance.

• 29 CFR part 33—Enforcement of Nondiscrimination on the Basis of Handicap in Programs or Activities Conducted by the Department of Labor.

• 29 CFR part 35—Nondiscrimination on the Basis of Age in Programs or Activities Receiving Federal Financial Assistance from the Department of Labor.

• 29 CFR part 36—Nondiscrimination on the Basis of Sex in Education Programs or Activities Receiving Federal Financial Assistance.

• 29 CFR part 37—Implementation of the Nondiscrimination and Equal Opportunity Provisions of the Workforce Investment Act of 1998 (WIA).

Note: Except as specifically provided in this notice, ETA's acceptance of a proposal and award of Federal funds to sponsor any program(s) does not provide a waiver of any grant requirements and/or procedures. For example, the OMB Circulars require that an entity's procurement procedures must ensure that all procurement transactions are conducted, as much as practical, to provide open and free competition. If a proposal identifies a specific entity to provide services, the ETA's award does not provide the justifications or basis to sole-source the procurement, i.e., avoid competition, unless the activity is regarded as the primary work of an official partner to the application.

Evaluation Requirements

DOL may require that the program or project participate in an evaluation of overall HGJTI grant performance. To measure the impact of grants funded under the HGJTI, ETA may arrange for or conduct an independent evaluation of the outcomes and benefits of the projects. Grantees must agree to make records on participants, employers, and funding available and to provide access to program operating personnel and to participants, as specified by the evaluator(s) under the direction of ETA, including after the expiration date of the grant.

Reporting Requirements

As a condition of participation in the High Growth Job Training Initiative, successful applicants will be required to submit performance information as well as Quarterly Financial Reports, Progress Reports and Final Reports.

Performance Requirements. High Growth Job Training Initiative grantees are required to report outcomes for the Common Performance Measures, which measure entry into employment, retention in employment, and earnings. Additional information on ETA's Common Measures policy can be found in Training Employment Guidance Letter No. 17-05, Common Measures Policy for the Employment and Training Administration's (ETA) Performance Accountability System and Related Performance Issues.

Quarterly Financial Reports. A Quarterly Financial Status Report (SF 269) is required until such time as all funds have been expended or the grant period has expired. Quarterly financial reports are due 30 days after the end of each calendar year quarter. Grantees must use ETA's Online Electronic Reporting System.

Progress Reports. The grantee must submit a quarterly progress report to the designated Federal Project Officer within 30 days after the end of each calendar year quarter. Two copies are to be submitted providing a detailed account of activities undertaken during that quarter. The Department may require additional data elements to be collected and reported on either a regular basis or special request basis. Grantees must agree to meet the Department's reporting requirements.

The quarterly progress report must be in narrative form and must include:

1. In-depth information on accomplishments including project success stories, upcoming grant activities, and promising approaches and processes.

2. Progress toward performance outcomes, including updates on product, curricula, and training development.

3. Status of project as it relates to the approved implementation plan.

4. Challenges, barriers, or concerns regarding project progress.

5. Lessons learned in the areas of project administration and management, project implementation, partnership relationships, and other related areas.

Final Report. A draft final report must be submitted no later than 60 days prior to the expiration date of the grant. This report must summarize project activities, employment outcomes, and related results of the project, and should thoroughly document the project solution approach. After responding to ETA's questions and comments on the draft report, three copies of the final report must be submitted no later than the grant expiration date. Grantees must agree to use a designated format specified by the Department to prepare the final report.

Part VII. Agency Contacts

Any technical questions regarding this SGA should be faxed to Jeannette Flowers, Fax number (202) 693-2705 (not a toll-free number). You must specifically address your fax to the attention of Jeannette Flowers and should include the following: SGA/DFA PY 06-07, a contact name, fax, and telephone number.

FOR FURTHER INFORMATION CONTACT: Jeannette Flowers, at (202) 693-3322 (not a toll-free number). This announcement is also being made available on http://www.grants.gov.

Part VIII. Other Information

OMB Information Collection No. 1205-0458.

Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return your completed application to the OMB. Send it to the address provided by the sponsoring agency.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Signed at Washington, DC, this 12th day of February, 2007.
Eric D. Luetkenhaus,
Grant Officer, Employment and Training Administration.

Attachments

Appendix A: Resources for Workforce Solutions and Development Tools for Long-Term Care

Appendix A: Resources for Workforce Solutions and Development Tools for the Long-Term Care Sector

Workforce3One

Workforce3One.org is an integrated Web space designed to support the demand-driven workforce investment system. Workforce3One offers performance support tools, products, and resources that help to 1) build awareness of the “demand-driven workforce system” philosophy; 2) share valuable information about emerging high growth/high-demand and economically vital industries; and 3) share best practices, strategies, solutions, and tools for addressing industry-identified workforce challenges. Resources specific to the long-term care industry are available here: http://www.workforce3one.org/content/members/marchive/131/.

Competency Model Clearinghouse

The Competency Model Clearinghouse was created by the Employment and Training Administration to support the development of competency-based training that meets industry need. The Clearinghouse hosts a searchable database of competency models, training strategies, and curricula, including apprenticeship models, for the long-term care sector. The Clearinghouse can be accessed at http://www.careeronestop.org/CompetencyModel/.

Better Jobs for Better Care

Better Jobs Better Care is a 4-year $15.5 million research and demonstration program, funded by the Robert Wood Johnson Foundation and The Atlantic Philanthropies. As part of the program, participants seek to achieve changes in long-term care policy and practice that help to reduce high vacancy and turnover rates among direct care staff across the spectrum of long-term care settings and contribute to improved workforce quality. Access to program models, solutions, and tools funded under the initiative are available through their Web site, http://www.bjbc.com.

The National Clearinghouse on the Direct Care Workforce

The National Clearinghouse on the Direct Care Workforce is a national on-line library for people in search of solutions to the direct-care staffing crisis in long-term care. A project of the Paraprofessional Healthcare Institute (PHI), the Clearinghouse includes government and research reports, news, issue briefs, fact sheets, and other information on topics such as recruitment, career advancement supervision, workplace culture, and caregiving practices. The Clearinghouse also houses training manuals and how-to guides, a list of direct-care worker associations and listings to other associations, resources, and events. The Clearinghouse can be accessed at www.directcareclearinghouse.org.

Direct Service Worker Resource Center

The National Direct Service Workforce (DSW) Resource Center, funded by the Centers for Medicare and Medicaid Services (CMS) under the U.S. Department for Health and Human Services, supports efforts support the successful implementation of efforts to improve recruitment and retention of direct support professionals who assist people with disabilities and older adults to live independently and with dignity in the community. This includes direct support professionals, personal care attendants, personal assistance providers, home care aides, home health aides and others. The Resource Center houses a resource database for information, policy research, technical expertise, training tools, and more covering a variety of topics such recruitment, retention, training, supervision, and consumer direction. The Resource Center can be accessed at http://www.dswresourcecenter.org/.

[FR Doc. E7-2741 Filed 2-15-07; 8:45 am]

BILLING CODE 4510-FN-P